NUCLEAR REGULATORY COMMISSION

[Docket No. 50-219; NRC-2019-0096]

Exelon Generation Company, LLC; Oyster Creek Nuclear Generating Station

AGENCY: Nuclear Regulatory Commission.

ACTION: Environmental assessment and finding of no significant impact; issuance.

SUMMARY: The U.S. Nuclear Regulatory Commission (NRC) is considering issuance of an exemption to Exelon Generation Company, LLC (Exelon or the licensee) that would change the effective date for the implementation of exemptions, approved on October 16, 2018. The proposed action would permit the licensee to reduce its emergency planning (EP) activities at the Oyster Creek Nuclear Generating Station (Oyster Creek) and change the effective date from 365 days to 285 days.

DATES: The EA and FONSI referenced in this document are available on May 1, 2019.

ADDRESSES: Please refer to Docket ID NRC-2019-0096 when contacting the NRC about the availability of information regarding this document. You may obtain publicly-available information related to this document using any of the following methods:

• Federal Rulemaking website: Go to http://www.regulations.gov and search for Docket ID NRC-2019-0096. Address questions about NRC dockets in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document. In addition, for the convenience of the reader, the ADAMS accession numbers are provided in a table in the “Availability of Documents” section of this document.

• NRC's PDR: You may examine and purchase copies of public documents at the NRC's PDR, Room O1-F21, One White Flint North, 11555 Rockville Pike, Rockville, Maryland 20852.

FOR FURTHER INFORMATION CONTACT: John G. Lamb, Office of Nuclear Reactor Regulation, U.S. Nuclear Regulatory Commission, Washington, DC 20555-0001; telephone: 301-415-3100; email: John.Lamb@nrc.gov.

SUPPLEMENTARY INFORMATION:

I. Introduction

The NRC is considering issuing an exemption, pursuant to section 50.12 of title 10 of the Code of Federal Regulations (10 CFR), “Specific exemptions,” from 10 CFR 50.47 and appendix E to 10 CFR part 50, to change the effective date for implementation of previously-approved exemptions for Facility Operating License No. DPR-16, issued on July 2, 1991, for operation of Oyster Creek, which is located in Ocean County, New Jersey, approximately 2 miles south of Forked River, New Jersey. The proposed action is in response to the licensee's application dated October 16, 2018 (ADAMS Accession No. ML18220A980), for Oyster Creek from certain EP requirements in 10 CFR part 50, “Domestic Licensing of Production and Utilization Facilities.”

By letter dated January 7, 2011 (ADAMS Accession No. ML110070507), Exelon notified the NRC that Oyster Creek will be permanently shut down no later than December 31, 2019, and subsequently the nuclear power plant will be in the process of decommissioning. By letter dated February 14, 2018 (ADAMS Accession No. ML18045A084), Exelon updated its notification and informed the NRC that Oyster Creek will be permanently shut down no later than October 31, 2018.

By letter dated September 25, 2018 (ADAMS Accession No. ML18268A258), Exelon certified that all fuel had been permanently removed from the Oyster Creek reactor vessel and placed in the spent fuel pool (SFP). Since Exelon submitted certifications of permanent cessation of operations and permanent removal of fuel from the reactor vessel, pursuant to 10 CFR 50.82(a)(2), Oyster Creek is no longer authorized to operate or to have fuel placed into its reactor vessel, but the licensee is still authorized to possess and store irradiated nuclear fuel. Irradiated nuclear fuel is currently being stored onsite at Oyster Creek in an SFP and in an independent spent fuel storage installation.

In accordance with 10 CFR 51.21, the NRC has prepared an environmental assessment (EA) that analyzes the environmental effects of the proposed action. Based on the results of the EA, and in accordance with 10 CFR 51.31(a), the NRC has determined not to prepare an environmental impact statement for the proposed licensing action, and is issuing a finding of no significant impact (FONSI).

II. Environmental Assessment

Description of the Proposed Action

The proposed action would revise the effective date for previously-approved exemptions that exempt Exelon from (1) certain standards as set forth in 10 CFR 50.47, “Emergency plans,” regarding onsite and offsite emergency response plans for nuclear power reactors; (2) requirements in 10 CFR 50.47(c)(2) to establish plume exposure and ingestion pathway emergency planning zones (EPZs) for nuclear power reactors; and (3) certain requirements in appendix E, section IV, to 10 CFR part 50, “Emergency Planning and Preparedness for Production and Utilization Facilities,” which establishes the elements that make up the content of emergency plans.

These exemptions were approved on October 16, 2018. The proposed action of granting this exemption to revise the effective date would shorten the period of time since the reactor has been permanently shut down and defueled from 365 days to 285 days for the implementation of exemptions that eliminated the requirements for Exelon to maintain offsite radiological emergency plans in accordance with 44 CFR 350 and reduce some of the onsite EP activities at Oyster Creek.

The proposed action is also described in the licensee's application dated November 6, 2018 (ADAMS Accession No. ML18310A306), as supplemented by letter dated February 13, 2019 (ADAMS Accession No. ML19044A643).

Need for the Proposed Action

The proposed action would allow Exelon to revise the Oyster Creek Emergency Plan once the reactor has been permanently shutdown and defueled for a period of 285 days instead of 365 days.

In its letter dated November 6, 2018, Exelon stated that complete application of the EP rule to Oyster Creek, since it is permanently shut down and defueled, does not serve the underlying purpose of the rule or is not necessary to achieve the underlying purpose of the rule. Exelon also stated that it would incur undue hardship or other costs in the application of operating plant EP requirements for the maintenance of an emergency response organization in excess of that actually needed to respond to the diminished scope of credible accidents for a permanently shutdown and defueled reactor.

Environmental Impacts of the Proposed Action

The proposed action would change the effective date for the implementation of the exemptions that mainly consisted of changes related to the elimination of requirements for the licensee to maintain offsite radiological emergency plans in accordance with 44 CFR 350 and reduce some of the onsite EP activities at Oyster Creek. The exemption is based on the licensee's revised Zirconium Fire Analysis that demonstrated a reduction of risk after the reactor has been permanently shut down and defueled for a period of 285 days. However, requirements for certain onsite capabilities to communicate and coordinate with offsite response authorities are retained and offsite EP provisions to protect public health and safety will still exist through State and local government use of comprehensive emergency management (all-hazards) planning.

With regard to potential nonradiological environmental impacts, the proposed action would have no direct impacts on land use or water resources, including terrestrial and aquatic biota, as it involves no new construction or modification of plant operational systems. There would be no changes to the quality or quantity of nonradiological effluents and no changes to the plants' National Pollutant Discharge Elimination System permits would be needed. In addition, there would be no noticeable effect on socioeconomic and environmental justice conditions in the region, air quality impacts, and no potential to affect historic properies. Therefore, there would be no significant nonradiological environmental impacts associated with the proposed action.

As stated above, the proposed action would not increase the probability or consequences of radiological accidents or change the types of effluents released offsite. In addition, there would be no significant increase in the amount of any radioactive effluents released offsite and, no significant increase in occupational or public radiation exposure. Therefore, there would be no significant radiological environmental impacts associated with the proposed action.

Environmental Impacts of the Alternatives to the Proposed Action

As an alternative to the proposed action, the NRC staff considered denial of the proposed action (i.e., the “no-action” alternative). The denial of the exemption request would result in no change in current environmental impacts. Therefore, the environmental impacts of the proposed action and the alternative action would be similar.

Alternative Use of Resources

There are no unresolved conflicts concerning alternative uses of available resources under the proposed action.

Agencies or Persons Consulted

No additional agencies or persons were consulted regarding the environmental impact of the proposed action. On April 3, 2019, the New Jersey state representative was notified of this EA and FONSI.

III. Finding of No Significant Impact

The licensee has requested a change to the effective date for the implementation of exemptions from: (1) Certain standards in 10 CFR 50.47(b) regarding onsite and offsite emergency response plans for nuclear power reactors; (2) requirement in 10 CFR 50.47(c)(2) to establish plume exposure and ingestion pathway EPZs for nuclear power reactors; and (3) certain requirements in 10 CFR part 50, appendix E, section IV, which establishes the elements that make up the content of emergency plans, which were approved on October 16, 2018. The proposed action of granting this exemption to revise the effective date of the exemptions is based on the licensee's revised Zirconium Fire analysis that demonstrated a reduction of risk after the reactor has been permanently shut down and defueled for a period of 285 days. However, requirements for certain onsite capabilities to communicate and coordinate with offsite response authorities are retained and offsite EP provisions to protect public health and safety will still exist through State and local government use of comprehensive emergency management (all-hazards) plan.

The NRC is considering issuing the requested exemption. The proposed action would not significantly affect plant safety, would not have a significant adverse effect on the probability of an accident occurring, and would not have any significant radiological or nonradiological impacts. Therefore, the proposed action would not have a significant effect on the environment. The reason the human environment would not be significantly affected is that the proposed exemption would not involve any construction or modification of the facility.

Consistent with 10 CFR 51.21, the NRC conducted the EA for the proposed action, and this FONSI incorporates by reference the EA in Section II of this notice. Therefore, the NRC concludes that the proposed action will not have a significant effect on the quality of the human environment. Accordingly, the NRC has determined that there is no need to prepare an environmental impact statement for the proposed action.

As required by 10 CFR 51.32(a)(5), the related environmental document is the “Generic Environmental Impact Statement for License Renewal of Nuclear Plants: Regarding Oyster Creek Nuclear Generating Station, Final Report,” NUREG-1437, Supplement 28, Volumes 1 and 2, which provides the latest environmental review of current operations and description of environmental conditions at Oyster Creek.

The finding and other related environmental documents may be examined, and/or copied for a fee, at the NRC's Public Document Room (PDR), located at One White Flint North, 11555 Rockville Pike, Rockville, Maryland 20852. Publicly-available records are accessible electronically from ADAMS Public Electronic Reading Room on the internet at the NRC's website: http://www.nrc.gov/reading-rm/adams.html. Persons who do not have access to ADAMS or who encounter problems in accessing the documents located in ADAMS should contact the NRC's PDR Reference staff by telephone at 1-800-397-4209 or 301-415-4737, or by email to pdr.resource@nrc.gov.

IV. Availability of Documents

The documents identified in the following table are available to interested persons through one or more of the following methods, as indicated.

Document | ADAMS accession No.
Docket No. 50-219, Request for Exemptions from Portions of 10 CFR 50.47 and 10 CFR part 50, appendix E, Oyster Creek Nuclear Generating Station, November 6, 2018 | ML18310A306
Docket No. 50-219, Response to Request for Additional Information Request for Exemptions from Portions of 10 CFR 50.47 and 10 CFR part 50, appendix E, Oyster Creek Nuclear Generating Station, February 13, 2019 | ML19044A643
Docket No. 50-219, Certification of Permanent Cessation of Operations at Oyster Creek Nuclear Generating Station, January 7, 2011 | ML110070507
Docket No. 50-219, Certification of Permanent Cessation of Power Operations for Oyster Creek Nuclear Generating Station, February 14, 2018 | ML18045A084
Docket No. 50-219, Certification of Permanent Removal of Fuel from the Reactor Vessel for Oyster Creek Nuclear Generating Station, September 25, 2018 | ML18268A258
Docket No. 50-219, Oyster Creek Nuclear Generating Station—Exemptions from Certain Emergency Plan Requirements and Related Safety Evaluation, October 16, 2018 | ML18220A980
Docket No. 50-219, “Final Environmental Statement—related to operation of Oyster Creek Nuclear Generating Station,” December 1974 | ML072200150
NUREG-1437, Supplement 28, “Generic Environmental Impact Statement for License Renewal of Nuclear Plants Regarding Oyster Creek Nuclear Generating Station,” January 2007 | ML070100234

Dated at Rockville, Maryland, this 26th day of April, 2019.
For the Nuclear Regulatory Commission.
John G. Lamb,
Senior Project Manager, Plant Licensing Branch II-1, Division of Operating Reactor Licensing, Office of Nuclear Reactor Regulation.

[FR Doc. 2019-08815 Filed 4-30-19; 8:45 am]

BILLING CODE 7590-01-P